INTERNATIONAL TRADE COMMISSION

[Inv. No. 337-TA-451]

Certain CMOS Active Pixel Image Sensors and Products Containing Same; Notice of Commission Decision Not To Review an Initial Determination Terminating the Investigation on the Basis of a Settlement Agreement

AGENCY: U.S. International Trade Commission.

ACTION: Notice.

SUMMARY: Notice is hereby given that the U.S. International Trade Commission has determined not to review the presiding administrative law judge's (“ALJ's”) initial determination (“ID”) terminating the investigation in its entirety based on a settlement agreement.

FOR FURTHER INFORMATION CONTACT: Clara Kuehn, Esq., Office of the General Counsel, U.S. International Trade Commission, 500 E Street, SW., Washington, DC 20436, telephone (202) 205-3012. Hearing-impaired persons are advised that information on this matter can be obtained by contacting the Commission's TDD terminal on 202-205-1810. General information concerning the Commission may also be obtained by accessing its Internet server (http://www.usitc.gov). Copies of the ALJ's ID and all other nonconfidential documents filed in connection with this investigation are or will be available for inspection during official business hours (8:45 a.m. to 5:15 p.m.) in the Office of the Secretary, U.S. International Trade Commission, 500 E Street, SW., Washington, DC 20436, telephone 202-205-2000.

SUPPLEMENTARY INFORMATION: The Commission ordered the institution of this investigation on March 5, 2001, based on a complaint filed by Photobit Corp. (Photobit) and the California Institute of Technology (Caltech), both of Pasadena, CA, against respondents OmniVision Technologies, Inc. of Sunnyvale, CA (OmniVision), Creative Labs, Inc. of Milpitas, CA (Creative Labs), and X10 Wireless Technology Inc. of Seattle, WA (X10). 66 FR 14421 (2001). The complaint, as supplemented, alleged violations of section 337 of the Tariff Act of 1930 in the importation into the United States, sale for importation, and sale within the United States after importation of certain CMOS active pixel image sensors and products containing same by reason of infringement of claims 1 and 2 of U.S. Letters Patent 5,841,126; claims 15-19 of U.S. Letters Patent 5,990,506; and claims 6-8 and 31 of U.S. Letters Patent 6,005,619.

On September 24, 2001, complainants Photobit and Caltech and respondents Creative Labs, OmniVision, and X10 filed a joint motion to terminate the investigation in its entirety based on settlement agreements. On October 2, 2001, the Commission investigative attorney filed a response supporting the joint motion. On October 9, 2001, the ALJ issued an ID (Order No. 10) granting the joint motion. No petitions for review of the ID were filed.

The authority for the Commission's determination is contained in section 337 of the Tariff Act of 1930, as amended (19 U.S.C. 1337), and in section 210.42 of the Commission's Rules of Practice and Procedure (19 CFR 210.42).

Issued: October 30, 2001.
By order of the Commission.
Donna R. Koehnke,
Secretary.

[FR Doc. 01-27636 Filed 11-2-01; 8:45 am]

BILLING CODE 7020-02-P